DEPARTMENT OF ENERGY

National Nuclear Security Administration

Office of Los Alamos Site Operations Notice of Floodplain Involvement for the Connector Road Between Technical Areas 22 and 8 at Los Alamos National Laboratory, Los Alamos, New Mexico

AGENCY: National Nuclear Security Administration, Office of Los Alamos Site Operations, DOE.

ACTION: Notice of floodplain involvement.

SUMMARY: The National Nuclear Security Administration (NNSA) of the Los Alamos Area Office at the Department of Energy (DOE) plans to construct a connector road about one mile in length between Technical Areas (TAs) 22 and 8 at Los Alamos National Laboratory (LANL). A short segment, less than 200 feet in length, of the road will cross a floodplain area within Pajarito Canyon, located within the western portion of LANL. In accordance with 10 CFR Part 1022, DOE has prepared a floodplain/wetland assessment and will perform this proposed action in a manner so as to avoid or minimize potential harm to or within the affected floodplain.

DATES: Comments are due to the address below no later than April 17, 2002.

ADDRESSES: Written comments should be addressed to: Elizabeth Withers, Department of Energy, National Nuclear Security Administration, Los Alamos Area Office, 528 35th Street, Los Alamos, NM 87544, or submit them to the Mail Room at the above address between the hours of 8:00 am and 4:30 p.m., Monday through Friday. Written comments may also be sent electronically to: ewithers@doeal.gov or by facsimile to (505) 667-9998.

FOR FURTHER INFORMATION CONTACT: Tom Rush, Department of Energy, National Nuclear Security Administration, Los Alamos Area Office, 528 35th Street, Los Alamos, NM 87544. Telephone (505) 667-5280, facsimile (505) 667-9998.

For Further Information on General DOE Floodplain Environmental Review Requirements, contact: Carol M. Borgstrom, Director, Office of NEPA Policy and Compliance, EH-42, Department of Energy, 100 Independence Avenue, SW., Washington DC 20585-0119. Telephone (202) 586-4600 or (800) 472-2756, facsimile (202) 586-7031.

SUPPLEMENTARY INFORMATION: In March 2002, NNSA considered a proposal for constructing about a mile-long, two lane paved road that would link TA-22 with an existing road, Anchor Ranch Road, within TA-8. This new road will provide a second means for access to facilities located at TA-22; the existing TA-22 access road will be restricted to emergency use. The new road will correct traffic safety hazards associated with use of the existing TA-22 access road. The area surrounding TA-22 and TA-8 is forested and having a secondary access road to the TA-22 facilities is an important fire safety measure. Construction of the road will commence in fiscal year 2003 and be completed in less than 12 months.

In accordance with DOE regulations for compliance with floodplain and wetlands environmental review requirements (10 CFR Part 1022), NNSA has prepared a floodplain/wetland assessment for this action, which is available by contacting Elizabeth Withers at the previously identified addresses, phone and facsimile numbers. The floodplain/wetland assessment is available for review at the DOE Reading Room at the Los Alamos Outreach Center, 1619 Central Avenue, Los Alamos, NM 878544; and the DOE Reading Room at the Zimmerman Library, University of New Mexico, Albuquerque, NM 87131. The NNSA will publish a floodplain statement of findings for this project in the Federal Register no sooner than April 17, 2002.

Issued in Los Alamos, NM on March 25, 2002.
Corey A. Cruz,
Acting Director, U. S. Department of Energy, National Nuclear Security Administration, Office of Los Alamos Site Operations.

[FR Doc. 02-7920 Filed 4-1-02; 8:45 am]

BILLING CODE 6450-01-P